FEDERAL TRADE COMMISSION

Agency Information Collection Activities; Proposed Collection; Comment Request

AGENCY: Federal Trade Commission (“Commission” or “FTC”).

ACTION: Notice.

SUMMARY: The FTC plans to conduct a consumer study to research alternatives to existing lamp (i.e., light bulb) labeling requirements. This study is part of the Commission’s rulemaking proceeding to examine the effectiveness of current light bulb package labeling as directed by Congress. Before conducting this research, the FTC is seeking public comments on the proposed study as part of its compliance with the Paperwork Reduction Act (“PRA”).

DATES: Comments must be received on or before January 30, 2009.

ADDRESSES: Interested parties are invited to submit written comments electronically or in paper form. Comments should refer to “Lamp Labeling Study, Project No. P084206” to facilitate the organization of comments. Please note that comments will be placed on the public record of this proceeding—including on the publicly accessible FTC website, at (http://www.ftc.gov/os/publiccomments.shtm) — and therefore should not include any sensitive or confidential information. In particular, comments should not include any sensitive personal information, such as an individual’s Social Security Number; date of birth; driver’s license number or other state identification number, or foreign country equivalent; passport number; financial account number; or credit or debit card number. Comments also should not include any sensitive health information, such as medical records or other individually identifiable health information. In addition, comments should not include any “[t]rade secrets and commercial or financial information obtained from a person and privileged or confidential. . .,” as provided in Section 6(f) of the FTC Act, 15 U.S.C. 46(f), and Commission Rule 4.10(a)(2), 16 CFR 4.10(a)(2). Comments containing material for which confidential treatment is requested must be filed in paper form, must be clearly labeled “Confidential,” and must comply with FTC Rule 4.9(c).¹

¹ FTC Rule 4.2(d), 16 CFR 4.2(d). The comment must be accompanied by an explicit request for confidential treatment, including the factual and legal basis for the request, and must identify the specific portions of the comment to be withheld from the public record. The request will be granted or denied by the Commission’s General Counsel, consistent with applicable law and the public interest. See FTC Rule 4.9(c), 16 CFR 4.9(c).

Because paper mail addressed to the FTC is subject to delay due to heightened security screening, please consider submitting your comments in electronic form. Comments filed in electronic form should be submitted by using the following weblink: (https://secure.commentworks.com/ftc-lampstudy) (and following the instructions on the web-based form). To ensure that the Commission considers an electronic comment, you must file it on the web-based form at the weblink (https://secure.commentworks.com/ftc-lampstudy). If this Notice appears at (http://www.regulations.gov/search/index.jsp), you may also file an electronic comment through that website. The Commission will consider all comments that regulations.gov forwards to it. You may also visit the FTC website at http://www.ftc.gov to read the Notice and the news release describing it.

A comment filed in paper form should include the “Lamp Labeling Study, Project No. P084206” reference both in the text and on the envelope, and should be mailed or delivered to the following address: Federal Trade Commission, Office of the Secretary, Room H-135 (Annex J), 600 Pennsylvania Avenue, NW, Washington, DC 20580. The FTC is requesting that any comment filed in paper form be sent by courier or overnight service, if possible, because U.S. postal mail in the Washington area and at the Commission is subject to delay due to heightened security precautions.

The FTC Act and other laws the Commission administers permit the collection of public comments to consider and use in this proceeding as appropriate. The Commission will consider all timely and responsive public comments that it receives, whether filed in paper or electronic form. Comments received will be available to the public on the FTC website, to the extent practicable, at (http://www.ftc.gov/os/publiccomments.shtm). As a matter of discretion, the Commission makes every effort to remove home contact information for individuals from the public comments it receives before placing those comments on the FTC website. More information, including routine uses permitted by the Privacy Act, may be found in the FTC’s privacy policy, at (http://www.ftc.gov/ftc/privacy.shtm).

FOR FURTHER INFORMATION CONTACT: Hampton Newsome, Attorney, 202-326-2889, or Lemuel Dowdy, Attorney, 202-326-2981, Division of Enforcement, Bureau of Consumer Protection, Federal Trade Commission.

SUPPLEMENTARY INFORMATION:

I. Background

In the Energy Independence and Security Act of 2007,² Congress directed the FTC to consider the effectiveness of current lamp labeling³ and alternative labeling disclosures. In particular, the Act calls on the Commission to consider whether alternative labeling approaches will help consumers better understand new high-efficiency lamp products and help them choose lamps that meet their needs. As a first step toward fulfilling this mandate, the Commission published an Advance Notice of Proposed Rulemaking on July 18, 2008 (73 FR 40988) that provided background about current labeling rules for lamps, the recent Congressional mandate, the purpose of the FTC labeling requirements, and various labeling considerations. Moreover, in the Notice and at a public roundtable held on September 15, 2008, the Commission sought comment concerning the effectiveness of current labeling requirements, as well as whether potential labeling alternatives would help consumers in their purchasing decisions. Specifically, the Commission asked for comment on whether labeling should address characteristics such as lamp brightness, energy use, operating cost, color temperature, and lamp life.

² See Section 321(b) of the Energy Independence and Security Act of 2007 (Pub. L. 110-140 (§ 324(a))).

³ The FTC’s current rule requires disclosure of energy use (in watts), light output (in lumens), and life (in hours) on packaging for most consumer lamp products. The current requirements do not impose a uniform disclosure format. Instead, the labeling requirements provide manufacturers flexibility regarding the size, font, and style in which the information is presented. See 16 CFR Part 305.

The Commission also requested that commenters provide consumer research data related to lighting disclosures. However, no commenters submitted or identified any recent, comprehensive consumer research. The Commission, therefore, is planning to conduct a consumer research study to aid in determining what revisions, if any, it should make to existing labeling requirements. This Notice provides a description of that proposed research, an estimate of the burden hours associated with the collection of information for that activity, and an invitation for comment on these issues.

II. FTC’s Proposed Consumer Research

The FTC proposes to collect information from consumers to gather data on the effectiveness of current lamp labels and possible alternative label designs.⁴ The proposed study will involve a sample of approximately 5,600 respondents who are at least 18 years old and are recent or likely light bulb purchasers.⁵ The FTC and its contractor will use a nationwide Internet panel to conduct and administer questions online.⁶ As discussed below, the study will involve asking respondents to consider various label variations and explore their labeling preferences, as well as their understanding of relevant lighting concepts.

⁴ The FTC has contracted with Synovate, Inc., a consumer research firm.

⁵ The FTC will pretest the study on 25 individuals to ensure that all questions are easily understood. The pretest participants will be drawn from the sample population. The contractor will identify respondents using any relevant, preexisting data in its Internet panel database and any necessary additional screener questions. The screener questions will help to ensure that the demographic composition of the sample reasonably matches that of the target population. Allowing for non-responses, up to approximately 15,000 respondents will answer screener questions. That number of respondents should enable the FTC to obtain its target sample size of 5,600 individuals.

⁶ The FTC expects to study a stratified sample of the adult United States population that is broadly representative of consumer group characteristics (e.g., geographic location, housing characteristics, gender, age, education, and race/ethnicity) based on the most recent Census Bureau’s Current Population Survey and Department of Energy’s Residential Energy Consumption Survey.

Label Variations: The study will employ standard consumer survey methodologies, which may include copy testing and choice experiments to explore how different labels impact consumer decision making regarding light bulb products. In the study, respondents will view one of several labels which will be assigned to them randomly. For example, one group will view a label with the current lamp disclosures while another group will view alternative disclosures. Respondents may then answer a series of questions about the characteristics of the products described in the labels and their preferences pertaining to the products. The questionnaire may ask respondents to identify certain product attributes communicated by the labels such as energy use, operating cost, and brightness. In addition, questions may explore whether various labeling disclosures help to impart accurately intended information or inadvertently convey other information (e.g., whether respondents incorrectly interpret certain types of energy use disclosures as indicia of product quality). The questions may also attempt to address whether alternative approaches create confusion with other government programs. For example, the study may explore how various labels impact respondents’ ability to identify ENERGY STAR products correctly.

In analyzing the study results, the FTC will conduct a statistical comparison of respondent answers across different test label components. If there are differences in accuracy rates for particular label approaches, the direction and statistical significance of these differences will aid the FTC in assessing whether one type of label design is more comprehensible than alternative designs.

Lighting Concepts and Consumer Preferences: In addition to questions involving different label comparisons, the study will seek information about respondents’ understanding of different lighting concepts such as lumens (i.e., light output) and color temperature (e.g., warm white, soft white, etc.). The study will also explore whether respondents believe certain types of information (e.g., operating cost or color temperature) are important in their purchasing decisions. Finally, the study will seek to gauge whether respondents have preferences regarding how certain types of information are communicated (e.g., whether energy use is communicated in operating cost as opposed to watts).

III. Estimated Burden Hours

The Commission estimates that the cumulative total burden hours for the study will be approximately 2,972 hours.⁷ This total estimate is derived as follows. First, the FTC plans to conduct a pretest of 25 persons that will take approximately 30 minutes on average per person, resulting in a total of approximately 13 burden hours (25 respondents x 30 minutes). Second, once the pretest is complete, the FTC and its contractor will ask screener questions of approximately 15,000 respondents in order to obtain the FTC’s target sample size of 5,600 individuals. The FTC estimates that it will take respondents one minute to respond to the screener questions. Thus, the total burden related to the screener questions will be approximately 250 hours (15,000 respondents x 1 minute). Finally, those respondents that pass the screener questions will answer the entire questionnaire. Using a conservative estimate of 6,500 individuals,⁸ the FTC further estimates that participating in the study will require an additional 2,709 hours as a whole (6,500 respondents x 25 minutes). Finally, the cost per respondent should be negligible. Participation is voluntary and will not require start-up, capital, or labor expenditures by respondents.

⁷ All fractions are rounded up to provide conservative estimates.

⁸ Although the target sample is 5,600 individuals, the procedures used by the contractor may result in collection of information from a slightly higher number of individuals.

IV. Request for Comment

As required by Section 3506(c)(2)(A) of the PRA, 44 U.S.C. 3501-21, the FTC is providing this opportunity for public comment before requesting the Office of Management and Budget (“OMB”) approval of information collection activities associated with the study. Under the PRA, federal agencies must obtain OMB approval for each collection of information they conduct or sponsor. “Collection of information” means agency requests or requirements that members of the public submit reports, keep records, or provide information to a third party. 44 U.S.C. 3502(3); 5 CFR 1320.3(c).

Specifically, the FTC invites comments on: (1) whether the proposed collection of information is necessary for the proper performance of the functions of the FTC, including whether the information will have practical utility; (2) the accuracy of the FTC’s estimate of the burden of the proposed collection of information; (3) ways to enhance the quality, utility, and clarity of the information to be collected; and (4) ways to minimize the burden of collecting information on those who respond, including through the use of appropriate automated, electronic, mechanical, or other technological collection techniques or other forms of information technology, e.g., permitting electronic submission of responses. All comments should be filed as prescribed in the ADDRESSES section above, and must be received on or before January 30, 2009.

By direction of the Commission.

Donald S. Clark
Secretary

[FR Doc. E8-28450 Filed 11-28-08: 8:45 am]

[BILLING CODE 6750-01-S]